DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Global Diversity Export Initiative (GDEI) Trade Mission to Saudi Arabia—December 8-9, 2024. A summary of the mission is found below. Application information and more detailed mission information, including the commercial setting and sector information, can be found at the trade mission website: https://www.trade.gov/trade-missions. For each mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Global Trade Programs, International Trade Administration, U.S. Department of Commerce, 1401 Constitution Avenue NW, Washington, DC 20230; telephone: (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least 51% U.S. content by value. In the case of a trade association or organization, the applicant must certify that, for each firm or service provider to be represented by the association/organization, the products and/or services the represented firm or service provider seeks to export are either produced in the United States or, if not, marketed under the name of a U.S. firm and have at least 51% U.S. content by value.

A trade association/organization applicant must certify and agree to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination country. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of company size and location may also be considered during the review process. Referrals from a political party or partisan political group or any information, including on the application, containing references to political contributions or other partisan political activities will be excluded from the application and will not be considered during the selection process. The sender will be notified of these exclusions.

Definition of Small and Medium-Sized Enterprise

For purposes of assessing participation fees, an applicant is a small and medium-sized enterprise (SME) if it qualifies as a “small business” under the Small Business Administration's (SBA) size standards (https://www.sba.gov/document/support--table-size-standards), which vary by North American Industry Classification System (NAICS) Code. The SBA Size Standards Tool (https://www.sba.gov/size-standards) can help you determine the qualifications that apply to your company.

Mission List: (additional information about trade missions can be found at https://www.trade.gov/trade-missions).

Global Diversity Export Initiative (GDEI) Trade Mission to Saudi Arabia—December 8-9, 2024

Summary

The United States Department of Commerce, International Trade Administration (ITA), is organizing a Global Diversity Export Initiative (GDEI) Trade Mission to Saudi Arabia from December 8-9, 2024.

This mission is focused on expanding export opportunities to U.S. small and medium-sized businesses that are founded, led, operated, or owned by women, from industries with growing potential in Saudi Arabia, but is open to all export-ready U.S. companies. The mission is horizontal, with various sectors represented, based on best prospects for U.S. companies in Saudi Arabia. Best prospect sectors are Education/Vocational Training; Healthcare; Information and Communication Technology (e.g., e-commerce, HealthTech, financial technology and AI); Infrastructure (e.g., project management and architecture); Aerospace; Consumer Goods (e.g., beauty and wellness); Defense and Security; Oil, Gas and Petrochemicals; Renewable Energy; Transportation and Logistics; Travel, Tourism and Entertainment; Waste Management and Water.

Recruitment and consideration will be extended to all export-ready U.S. companies, including small businesses, trade associations and other exporting organizations that meet the established criteria for participation in the mission. In keeping with the U.S. Department of Commerce's Equity Action Plan, ITA seeks to improve outreach to and representation of businesses with owners and/or leaders from underserved communities, including through the Global Diversity Export Initiative of the U.S. Commercial Service. This mission will expand access to export opportunities to U.S. small and medium-sized businesses, including those founded, led, operated, or owned by women from industries with growing potential in Saudi Arabia.

This mission is in alignment with Executive Order 13985 on Advancing Racial Equity and Support for Underserved Communities Through the Federal Government (January 25, 2021) (E.O. 13985), Executive Order 14091 on Further Advancing Racial Equity and Support for Underserved Communities Through the Federal Government (February 22, 2022) (E.O. 14091), Executive Order 14020 on the Establishment of the White House Gender Policy Council (March 11, 2021) (E.O. 14020), and the Global Diversity Export Initiative of the U.S. Commercial Service. For the purposes of the trade mission, ITA adopts the definition of “underserved communities” in E.O. 14020, incorporated into E.O. 14091: “populations sharing a particular characteristic, as well as geographic communities, that have been systematically denied a full opportunity to participate in aspects of economic, social, and civic life, as exemplified by the list in the preceding definition of “equity.” “Equity” is defined as “the consistent and systematic fair, just, and impartial treatment of all individuals, including individuals who belong to underserved communities that have been denied such treatment, such as women and girls; Black, Latino, and Indigenous and Native American persons, Asian Americans and Pacific Islanders and other persons of color; members of religious minorities; lesbian, gay, bisexual, transgender, and queer (LGBTQ+) persons; persons with disabilities; persons who live in rural areas; and persons otherwise adversely affected by persistent poverty or inequality.” This trade mission is also designed to be responsive to the priorities stated by Secretary of Commerce Gina Raimondo and outlined in the Equity Action Plan released in April 2022 which aspires to “harness the talents and strengths of all parts of the country, including women, people of color, and others who are too often left behind” including by “[s]trengthen[ing] small businesses in underserved communities by helping them be successful exporters”.

Women own 12 million businesses in the United States, employing more than 10 million workers. According to the U.S. Small Business Administration's Office of Advocacy (citing the 2018 Census Bureau's Annual Business Survey, latest data available), women-owned businesses contributed $2.1 trillion in total sales to the U.S. economy and $388 billion in annual payroll. The 2020 Census Bureau's Annual Business Survey included top sectors for women-owned employer firms: (1) healthcare and social assistance at approximately 216,000 women-owned employer firms; (2) professional, scientific and technical services at approximately 207,000 women-owned employer firms, and (3) retail trade at approximately 137,000 women-owned employer firms.

Despite these promising statistics, women-owned businesses face unique obstacles in accessing overseas markets, including difficulty obtaining financing and lack knowledge about export opportunities. According to the most recent Census data (2021), from a sample of approximately 146,000 firms that export, 15% are women-owned. This mission is designed to assist U.S. small and medium-sized business that are founded, led, operated, or owned by women to find partners and begin or expand their exports in Saudi Arabia, however recruitment and consideration will be extended to all export-ready U.S. companies, including small businesses, trade associations and other exporting organizations that meet the established criteria for participation in the mission.

On Sunday, December 8th, trade mission participants will attend a trade mission briefing, business-to-business (B2B) appointments, and a networking reception. On Monday, December 9th, participants will engage in a networking breakfast, B2B appointments, and networking lunch with key service providers and U.S. diplomats and/or industry specialists, to obtain information and material on trade-related resources. On Tuesday, December 10th, selected participants will join the optional stop in Jeddah to participate in B2B meetings with pre-screened potential buyers, agents, distributors, or joint-venture partners. On Wednesday, December 11th, selected participants will join the optional stop in Dhahran to participate in B2B meetings with pre-screened potential buyers, agents, distributors, or joint-venture partners.

The combination of B2B matchmaking opportunities in Riyadh, Jeddah, and Dhahran will provide participants with substantive information on strategies for entering or expanding their business in Saudi Arabia, key contacts with Commercial Service officers and local staff, and networking opportunities to build vital business relationships.

Commercial Setting

The United States and Saudi Arabia share common interests in strengthening economic growth, prosperity, and competitiveness in the Middle East. Saudi Arabia's Vision 2030 economic diversification initiatives are generating opportunities for U.S. companies across industry sectors. Today, the $54 billion U.S.-Saudi Arabia trade and investment relationship creates thousands of jobs in both countries. In 2020, U.S. goods exports to Saudi Arabia exceeded $10.9 billion, and U.S. imports were just over $9 billion according to the U.S. Census Bureau. U.S. services exports were $10.3 billion, and imports were $1.2 billion. According to the Commerce Department's Bureau of Economic Analysis, U.S. foreign direct investment (FDI) in Saudi Arabia increased from $11.1 million in 2019 to $11.4 million in 2020. Saudi Arabia is the largest country in the Gulf region with a population of over 35 million, and the largest economy in the Arab World with a GDP of $832.4 billion as of December 31, 2021. Saudi Arabia has made strong commitments to supporting women and women-owned business. As part of Vision 2030's Human Capability Development Program and National Transformation Program, women's empowerment is a top priority of social reform. Greater access to education and jobs is making the Kingdom a more inclusive society.

Vision 2030 was the first phase in a long-term strategy. Broadly, the Vision 2030 goal was setting the foundation for building non-oil economy composed of three general objectives (1) Catalyzing investment in emerging and high growth sectors (2) Unlocking local factors of production—including Saudis nationals in the economy (3) Creating an attractive environment for foreign direct investment.

As we get close to the midway point of Vision 2030, Saudis will start talking about Vision 2040, the next 10-year plan, which will focus on solidifying and scaling up gains from Vision 2030 in a sustainable way. The key factors will be developing economic productivity and competitiveness through upskilling, scaling up investments in key sectors and developing SMEs in the economy and building sustainability throughout.

Country Information

Why Saudi Arabia

Key reasons why U.S. companies should consider exporting to Saudi Arabia:

1. Saudi Arabia's Vision 2030 is a paradigm shift from a public sector-driven economy to one the state intends will be driven by the private sector as the main engine for economic growth and job creation.

2. Vision 2030 has created opportunities for U.S. companies across all industry sectors—particularly ICT, renewable energy, financial services, aerospace, transportation and logistics, healthcare, education and vocational training, infrastructure, entertainment, and tourism—including through the giga-projects (NEOM, Qiddiya, Amaala, Red Sea, and Diriyah Gate).

3. Saudi Arabia aims to become a major transport and logistics hub linking Asia, Europe, and Africa.

4. Consumer attitudes and brand preferences are like those in the United States. U.S. goods and services enjoy a reputation for high quality and durability in the country.

5. This sweeping range of reforms has expanded women's rights and economic empowerment, reformed the education system, sharply reduced the influence of the religious establishment, and tightened restrictions on extremist or intolerant religious messaging. Women can now drive, work, and travel independently, and they increasingly hold senior positions in the public and private sectors.

6. Female workforce participation has risen from 17.4 percent in 2017 to 37 percent today—a higher rate than in Türkiye, an OECD country. The first female Saudi astronaut embarked on a commercial mission to the International Space Station in May—a remarkable feat in a country where women were not allowed to drive a car just five years ago.

Other Products and Services

Best prospect sectors for U.S. companies in Saudi Arabia are not intended to be exhaustive, but illustrative of the many opportunities available to U.S. businesses. Applications from firms selling products or services within the scope of this mission, but not specifically identified, will be considered and evaluated by the U.S. Department of Commerce. Firms whose products or services do not fit the mission's scope may contact their local U.S. Export Assistance Center (USEAC) to learn about other business development missions and services that may provide more targeted export opportunities. Firms may call 1-800-872-8723, or go to https://www.trade.gov/contact-us to obtain such information. This information also may be found on the website: https://www.trade.gov/.

Mission Goals

Recruitment and consideration will be extended to all export-ready U.S. companies, including small businesses, trade associations and other exporting organizations that meet the established criteria for participation in the mission. The goal of the mission is to help participating U.S. small and medium-sized businesses that are founded, led, operated, or owned by women, find potential business opportunities, partners, buyers, agents, distributors, and joint venture partners in Saudi Arabia, laying the foundation for successful long-term ventures to take advantage of market opportunities in Saudi Arabia. During the mission, the delegation will have access to U.S. and Foreign Commercial Service (US&FCS) officers and specialists from Saudi Arabia. They will learn about the many business opportunities in Saudi Arabia and gain first-hand market exposure. Trade mission participants already doing business in Saudi Arabia will be able to further advance business relationships and explore new opportunities.

Mission Scenario & Timetable

The mission fee will include country market briefings, logistics support, B2B appointments with pre-screened potential business partners in Riyadh, Saudi Arabia, with two optional stops in Jeddah and Dhahran, Saudi Arabia.

On Sunday, December 8th, trade mission participants will attend a trade mission briefing, B2B appointments, and a networking reception. On Monday, December 9th, participants will engage in a networking breakfast, B2B appointments, and networking lunch with key service providers and U.S. diplomats and/or industry specialists, to provide information and material on trade-related resources. On Tuesday, December 10th, selected participants will join the optional stop in Jeddah to participate in B2B meetings with pre-screened potential buyers, agents, distributors, or joint-venture partners. On Wednesday, December 11th, selected participants will join the optional stop in Dhahran to participate in B2B meetings with pre-screened potential buyers, agents, distributors, or joint-venture partners.

* Note: The final schedule and potential site visits will depend on the availability of host government and business officials, specific goals of mission participants, and ground transportation.

December 7, 2024 | Travel Day/Arrival in Riyadh, Saudi Arabia.
December 8, 2024 | Riyadh, Saudi Arabia Morning: Trade Mission Briefing Afternoon: B2B Meetings Evening: Networking Reception.
December 9, 2024 | Riyadh, Saudi Arabia Morning: Networking Breakfast Afternoon: Networking Lunch and B2B Meetings.
December 10, 2024 | Optional Stop: Travel to Jeddah. B2B Meetings in Jeddah, Saudi Arabia.
December 11, 2024 | Optional Stop: Travel to Dhahran B2B Meetings in Dhahran, Saudi Arabia.

Participation Requirements

All parties interested in participating in the U.S. Department of Commerce GDEI Trade Mission to Saudi Arabia must complete and submit an application package for consideration by the U.S. Department of Commerce. All applicants will be evaluated on their ability to meet certain conditions and best satisfy the selection criteria as outlined below. A minimum of 20 and a maximum of 30 firms and/or trade associations will be selected to participate in the mission on a first come, first served basis.During the registration process, applicants will be able to select the cities for which they would like to receive a brief market assessment.Upon receipt of market assessment reports, they will be able to select up to two optional stops for B2B meetings.

All selected participants will attend the core mission stop in Riyadh, Saudi Arabia and will have the opportunity for B2B meetings in Jeddah and/or Dhahran, Saudi Arabia as an optional stop.

The maximum number of firms that may be selected for B2B meetings in Jeddah, Saudi Arabia as an optional stop is 10 companies.

The maximum number of firms that may be selected for B2B meetings in Dhahran, Saudi Arabia as an optional stop is 10 companies.

The trade mission is open to U.S. firms already doing business in Saudi Arabia who are seeking to expand their market share and to those U.S. firms new to these markets.

Fees and Expenses

After a firm or trade association is selected to participate on the mission, a payment to the Department of Commerce in the form of a participation fee is required. Up to two cities can be selected for B2B meetings.

The fees are as follow:

The mission participation fee for mission stop in Riyadh, Saudi Arabia, will be $1,995 for a small or medium-sized enterprises (SME) [1] and $2,906 for large firms.

The mission participation fee for the optional mission stop in Jeddah, Saudi Arabia is $1,499 for a small or medium-sized enterprise (SME) [1] and $2,055 for large firms.

The mission participation fee for the optional mission stop in Dhahran, Saudi Arabia is $1,499 for a small or medium-sized enterprise (SME) [1] and $2,055 for large firms.

The fee for additional small or medium-sized enterprise (SME) [1] or large firm representative is $750.

If and when an applicant is selected to participate in a particular mission, a payment to the Department of Commerce in the amount of the designated participation fee above is required. Upon notification of acceptance, those selected have five business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event the mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the U.S. Department of Commerce will provide instructions to each participant on the procedures required to obtain business visas.

Trade mission members participate in trade missions and undertake mission-related travel at their own risk. The nature of the security situation in any given foreign market at a given time cannot be guaranteed. The U.S. Government does not make any representations or guarantees as to the safety or security of participants. The U.S. Department of State issues U.S. Government international travel alerts and warnings for U.S. citizens available at https://travel.state.gov/content/passports/en/alertswarnings.html.

Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public, and applicants previously selected to participate in this mission will need to confirm their availability but need not reapply. Should the decision be made to organize a virtual program, the Department will adjust fees, accordingly, prepare an agenda for virtual activities, and notify the previous selected applicants with the option to opt-in to the new virtual program.

Timeframe for Recruitment and Applications

Mission recruitment will be conducted in an open and public manner, including publication in the Federal Register, posting on the Commerce Department trade mission calendar on www.trade.gov, the Global Diversity Export Initiative web page at https://www.trade.gov/global-diversity-export-initiative-events, and other internet websites, press releases to the general and trade media, direct mail and broadcast fax, notices by industry trade associations and other multiplier groups and announcements at industry meetings, symposia, conferences, and trade shows. The Commerce Department may also work with the U.S. Small Business Administration and the Organization of Women in International Trade to promote the mission. Recruitment for the mission will begin immediately and conclude no later than Friday, September 06, 2024. The U.S. Department of Commerce will review applications and make selection decisions on a rolling basis until the maximum of 30 participants are selected. After Friday, September 06, 2024, companies will be considered only if space and scheduling constraints permit.

Contacts

U.S. Global Diversity Export Initiative Contact Information, Gabriela Zelaya, Acting Director/Global Diversity Export Initiative, U.S. Commercial Service San Jose, CA, Email: Gabriela.Zelaya@trade.gov, Tel: (408) 335-9202

Middle East & Africa Global Team Contact Information, Larry Tabash, Global Team Leader, Middle East & Africa Team, U.S. Commercial Service Austin, TX, Larry.Tabash@trade.gov, Tel: (512) 936-0039

Commercial Service Kingdom of Saudi Arabia Contact Information, Andrew Billard, Senior Commercial Officer, U.S. Embassy Saudi Arabia, Email: Andrew.Billard@trade.gov,

Carla Menéndez, Deputy Senior Commercial Officer, U.S. Embassy Saudi Arabia, Email: Carla.Menendez@trade.gov

Gemal Brangman,
Director, Global Trade Programs.

[FR Doc. 2024-04867 Filed 3-6-24; 8:45 am]

BILLING CODE 3510-DR-P